FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Interagency Notice of Change in Director or Executive Officer.

OMB Number: 3064-0097.

Annual Burden:

Estimated annual number of respondents: 200.

Estimated time per response: 2 hours.

Total annual burden hours: 400 hours.

Expiration Date of OMB Clearance: January 31, 2003.

SUPPLEMENTARY INFORMATION: The Interagency Notice of Change in Director or Executive Officer is submitted regarding the proposed addition of any individual to the board of directors or the employment of any individual as a senior executive officer. The information is used by the FDIC to make an evaluation of the general character of individuals who will be involved in the management of depository institutions, as required by statute.

2. Type of Review: Renewal of a currently approved collection.

Title: Customer Assistance.

OMB Number: 3064-0134.

Annual Burden:

Estimated number of respondents: 5,000.

Estimated time per response: 30 minutes.

Total annual burden hours: 2,500 hours.

Expiration Date of OMB Clearance: January 31, 2003.

Supplementary Information: This collection permits the FDIC to collect information from customers of financial institutions who have inquiries or complaints about service. Customers may document their complaints or inquiries to the FDIC using a letter or on an optional form.

OMB Reviewer: Joseph F. Lackey, Jr. (202) 395-4741, Office of Management and Budget, Office of Information and Regulatory Affairs, Washington, DC 20503.

FDIC Contact: Tamara R. Manly, (202) 898-7453, Legal Division, Room MB-3109, Federal Deposit Insurance Corporation, 550 17th Street NW., Washington, DC 20429.

Comments: Comments on these collections of information are welcome and should be submitted on or before February 14, 2003, to both the OMB reviewer and the FDIC contact listed above.

ADDRESSES: Information about this submission, including copies of the proposed collections of information, may be obtained by calling or writing the FDIC contact listed above.

Dated: January 10, 2003.
Federal Deposit Insurance Corporation.
Valerie Best,
Assistant Executive Secretary.

[FR Doc. 03-866 Filed 1-14-03; 8:45 am]

BILLING CODE 6714-01-P